DEPARTMENT OF COMMERCE

Foreign-Trade Zones Board

[Docket 3-2004]

Foreign-Trade Zone 193—Pinellas County, Florida; Expansion of Manufacturing Authority—Subzone 193A, Cardinal Health 409, Inc. (Gelatin Capsules/Pharmaceutical Products), Pinellas County, Florida

An application has been submitted to the Foreign-Trade Zones Board (the Board) by the Pinellas County Board of County Commissioners, grantee of FTZ 193, requesting to expand the scope of manufacturing authority under zone procedures within Subzone 193A, at the Cardinal Health 409, Inc. (formerly R.P. Scherer Corporation) facilities in the St. Petersburg/Clearwater area (Pinellas County), Florida. It was formally filed on February 10, 2004.

Subzone 193A was approved by the Board in 2000 at 4 sites (42.1 acres) in the St. Petersburg/Clearwater area (Pinellas County), with authority granted for the manufacture of soft gelatin capsules and certain pharmaceutical products (Board Order 1117, 65 FR 54196, 9/7/2000). The scope of authority under zone procedures at Subzone 193A was recently expanded (Board Order 1282, 68 FR 53344, 9/10/03).

Subzone 193A (754 employees) is currently requesting to further expand the scope of authority for manufacturing activity conducted under FTZ procedures to include a broad range of inputs and pharmaceutical and nutritional final products. Categories of inputs include edible products of animal origin, dried vegetables, alfalfa, vegetable saps and pectins, various seed (including soybean oil), nut and vegetable oils, margarine, animal fats or oils, liver extract, food preparations, protein concentrates, chromium and manganese oxides, sulfates, phosphates, silicates, salts of oxometallic acids, acyclic hydrocarbons, acyclic/cyclic/ether alcohols, ketones and quinones, mono- and polycarboxylic acids, anisidines, amino acids, carboxymide-function compounds, quaternary salts, lecithins, saccharin, organo-sulfur compounds, heterocyclic compounds, nucleic acids, sulfanomides, glycosides, chemically pure sugars, essential oils of citrus fruit, other essential oils, perfumes and toilet waters, gelatin, rosin and resin acids, industrial fatty alcohols, prepared binders, silicones, cellulose, natural polymers, and worked vegetable or mineral carving material. Materials sourced from abroad represent some 30%-40% of material inputs.

The applicant is also requesting authority to use zone procedures to ship from the plant the inedible gelatin (HTSUS 3503.00.20.00) resulting from the manufacture of soft gel capsules from foreign edible gelatin (HTSUS 3503.00.55.10) and to manufacture vegetable-based capsules from imported and domestic carageenan (HTSUS 1302.39, duty rate, 3.2%) and starch (HTSUS 3912.90, duty rate, 5.2%).

Zone procedures would exempt Cardinal from Customs duty payments on foreign materials used in production for export. Up to 5 percent of the plant's shipments are currently exported. On domestic shipments, the company would be able to defer Customs duty payments on foreign materials, and to choose the duty rate that applies to finished products (primarily duty-free, but up to 10%) instead of the rates otherwise applicable to the foreign input materials (duty free—19%)(noted above). The application indicates that the savings from zone procedures would help improve Cardinal's international competitiveness.

In accordance with the Board's regulations, a member of the FTZ staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave. NW., Washington, DC 20230.

The closing period for their receipt is April 19, 2004. Rebuttal comments in response to material submitted during the foregoing period may be submitted during the subsequent 15-day period (to May 4, 2004).

A copy of the application and accompanying exhibits will be available for public inspection at the Office of the Foreign-Trade Zones Board's Executive Secretary at address Number 1 listed above, and at the U.S. Department of Commerce Export Assistance Center, 14010 Roosevelt Blvd., Suite 704, Clearwater, Florida 33762.

Dated: February 10, 2004.
Dennis Puccinelli,
Executive Secretary.

[FR Doc. 04-3643 Filed 2-18-04; 8:45 am]

BILLING CODE 3510-DS-P